DEPARTMENT OF THE INTERIOR

Fish and Wildlife Service

[FWS-R8-ES-2015-N048; FXES11130800000-154-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing recovery permits to conduct certain activities with endangered species.

DATES: Comments on these permit applications must be received on or before April 15, 2015.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicants

Permit No. TE-67390A

Applicant: Benjamin J. Smith, Mission Viejo, California

The applicant requests a permit renewal to take (harass by survey) the southwestern willow flycatcher (Empidonax traillii extimus) in conjunction with survey activities throughout the range of the species in California for the purpose of enhancing the species' survival.

Permit No. TE-789253

Applicant: Brian Foster, El Cajon, California

The applicant requests a permit renewal to take (harass by survey, locate and monitor nests, handle/mark eggs, capture, band, collect for euthanization, and release) the western snowy plover (Pacific Coast population distinct population segment (DPS)) (Charadrius nivosus nivosus), and take (harass by survey, locate and monitor nests, handle/mark eggs, capture, band, and release) the California least tern (Sternula antillarum browni) (Sterna a. b.) in conjunction with population and breeding studies in San Diego County, California, for the purpose of enhancing the species' survival.

Permit No. TE-022360

Applicant: Tierra Data Inc., Escondido, California

The applicant requests a permit renewal to remove/reduce to possession the Allium munzii (Munz's onion), Arctostaphylos glandulosa subsp. crassifolia (Del Mar manzanita), Astragalus brauntonii (Braunton's milk-vetch), Chorizanthe orcuttiana (Orcutt's spineflower), Eryngium aristulatum var. parishii (San Diego button celery), and Fremontodendron mexicanum (Mexican flannelbush) in conjunction with surveys at Naval Weapons Station Seal Beach, Detachment Fallbrook, California, for the purpose of enhancing the species' survival.

Permit No. TE-58452B

Applicant: Darren M. Ward, Arcata, California

The applicant requests a permit to take (harass by survey, capture, handle, and release) the tidewater goby (Eucyclogobius newberryi) in conjunction with research and population monitoring activities within Humboldt County, California, for the purpose of enhancing the species' survival.

Permit No. TE-67390A

Applicant: Sean P. Rowe, Weldon, California

The applicant requests a permit renewal to take (harass by survey) the southwestern willow flycatcher (Empidonax traillii extimus), in conjunction with survey activities throughout the range of the species in California for the purpose of enhancing the species' survival.

Permit No. TE-017549

Applicant: Mary Whitfield, Weldon, California

The applicant requests a permit renewal and amendment to take (locate and monitor nests, capture, band, and release) the least Bell's vireo (Vireo bellii pusillus), and take (harass by survey, locate and monitor nests, capture, band, collect blood, collect feathers, and release) the southwestern willow flycatcher (Empidonax traillii extimus), in conjunction with survey and genetics activities throughout the range of the species in California for the purpose of enhancing the species' survival.

Permit No. TE-786714

Applicant: Elyssa Robertson, Imperial Beach, California

The applicant requests a permit renewal to take (survey by pursuit, handle, and live-capture) the Quino checkerspot butterfly (Euphydryas editha quino) in conjunction with survey activities throughout the range of the species in California for the purpose of enhancing the species' survival.

Permit No. TE-067347

Applicant: Crysta Dickson, San Clemente, California

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi), and take (survey by pursuit, handle, and live-capture) the Quino checkerspot butterfly (Euphydryas editha quino), in conjunction with survey activities throughout the range of the species in California for the purpose of enhancing the species' survival.

Permit No. TE-049461

Applicant: Jaymee Marty, Sacramento, California

The applicant requests a permit renewal and amendment to take (capture, collect, and collect vouchers) the vernal pool tadpole shrimp (Lepidurus packardi), Conservancy fairy shrimp (Branchinecta conservatio), longhorn fairy shrimp (Branchinecta longiantenna), Riverside fairy shrimp (Streptocephalus woottoni), and San Diego fairy shrimp (Branchinecta sandiegonensis), and take (harass by survey, capture, handle, and release) the California tiger salamander (Santa Barbara County DPS and Sonoma County DPS) (Ambystoma californiense) in conjunction with survey activities throughout the range of the species in California for the purpose of enhancing the species' survival.

Permit No. TE-097516

Applicant: Thomas P. Ryan, Monrovia, California

The applicant requests a permit amendment to take (harass by survey, locate and monitor nests, erect and use cameras to monitor nests, use decoys and acoustic playback, capture, handle, band, color-band, release, float eggs, collect non-viable eggs, transport abandoned eggs, and collect feathers) the California least tern (Sternula antillarum browni) (Sterna a. b.) in conjunction with surveys, population studies, and research activities within San Diego, Orange, Los Angeles, Ventura, Santa Barbara, and San Luis Obispo Counties, California, for the purpose of enhancing the species' survival.

Permit No. TE-007907

Applicant: Eric Janney, Klamath Falls, Oregon

The applicant requests a permit renewal and amendment to take (capture, handle, mark [including the use of fin clips, external tags, internal and external radio telemetry transmitters, PIT tags, and coded wire tags], release, collect specimens, and collect gametes) the shortnose sucker (Chasmistes brevirostris) and take (capture, handle, mark [including the use of fin clips, external tags, internal and external radio telemetry transmitters, PIT tags, and coded wire tags], release, collect specimens, collect gametes, hold hatchery-reared juveniles, and euthanize hatchery-reared juveniles for nutritional analyses) the Lost River sucker (Deltistes luxatus) in conjunction with surveys, population studies, and research activities throughout the range of the species for the purpose of enhancing the species' survival.

Permit No. TE-066621

Applicant: Marin Ruane, Point Magu, California

The applicant requests a permit amendment to take (capture, handle, band, release) the least Bell's vireo (Vireo bellii pusillus) in conjunction with population monitoring activities on Naval Base Ventura County, Point Mugu, California, for the purpose of enhancing the species' survival.

Permit No. TE-045994

Applicant: United States Geological Survey, Western Ecological Research Center, San Diego, California

The applicant requests a permit amendment to take (harass by survey, capture, handle, mark, tag, and release at point of capture, collect voucher specimens, collect tissue samples and swab, conduct radio telemetry, transport, captive breed and rear, remove infertile eggs from egg masses released from captivity, and release to the wild (translocate) the mountain yellow-legged frog (southern California DPS) (Rana muscosa) in conjunction with surveys and population monitoring activities within Bear Creek, Angeles National Forest, Los Angeles County, and to take (inoculate with symbiotic bacteria) the mountain yellow-legged frog (southern California DPS) in conjunction with chytrid fungal protection throughout the range of the species in California for the purpose of enhancing the species' survival.

Permit No. TE-59158B

Applicant: Darren Newman, North Fork, California

The applicant requests a permit to take (capture, collect, and collect vouchers) the Conservancy fairy shrimp (Branchinecta conservatio), longhorn fairy shrimp (Branchinecta longiantenna), San Diego fairy shrimp (Branchinecta sandiegonensis), Riverside fairy shrimp (Streptocephalus woottoni), vernal pool tadpole shrimp (Lepidurus packardi), to take (harass by survey, capture, handle and release) the Fresno kangaroo rat (Dipodomys nitratoides exilis), giant kangaroo rat (Dipodomys ingens), Morro Bay kangaroo rat (Dipodomys heermanni morroensis), Tipton kangaroo rat (Dipodomys nitratoides nitratoides), Pacific pocket mouse (Perognathus longimembris pacificus), and Buena Vista Lake ornate shrew (Sorex ornatus relictus), and to take (harass by survey, capture, handle, and release) the California tiger salamander (Santa Barbara County DPS and Sonoma County DPS) (Ambystoma californiense) in conjunction with survey activities throughout the range of the species in California for the purpose of enhancing the species' survival.

Permit No. TE-829554

Applicant: Barbara Kus, San Diego, California

The applicant requests a permit renewal to take (locate and monitor nests, capture, handle, measure, weigh, band, color-band, release, collect body and tail feathers and blood, and remove brown-headed cowbird (Molothrus ater) eggs and chicks from parasitized nests) the least Bell's vireo (Vireo bellii pusillus), and take (harass by survey, locate and monitor nests, capture, handle, measure, weigh, band, color-band, release, collect body feathers and blood, and remove brown-headed cowbird eggs and chicks from parasitized nests) the southwestern willow flycatcher (Empidonax traillii extimus), in conjunction with population monitoring and genetic studies throughout the range of each species in California, Arizona, and New Mexico for the purpose of enhancing the species' survival.

Permit No. TE-085026

Applicant: Jeff Steinman, San Francisco, California

The applicant requests a permit renewal and amendment to take (locate and monitor nests and remove brown-headed cowbird (Molothrus ater) eggs and chicks from parasitized nests) the least Bell's vireo (Vireo bellii pusillus), take (harass by survey, locate and monitor nests, and remove brown-headed cowbird eggs and chicks from parasitized nests) the southwestern willow flycatcher (Empidonax traillii extimus), and take (harass by survey) the yellow-billed cuckoo (western DPS) (Coccyzus americanus) in conjunction with survey and population monitoring throughout the range of the species in California and Arizona for the purpose of enhancing the species' survival.

Permit No. TE-027427

Applicant: Jeff A. Alvarez, Sacramento, California

The applicant requests a permit amendment to take (collect soil containing federally listed fairy shrimp cysts (eggs), translocate, and inoculate cysts into restored vernal pools) the longhorn fairy shrimp (Branchinecta longiantenna) in conjunction with vernal pool restoration and population enhancement activities at the Kellogg Creek Vernal Pool Complex, Los Vaqueros Watershed, Contra Costa County, California, for the purpose of enhancing the species survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Michael Long,
Acting Regional Director, Pacific Southwest Region, Sacramento, California.

[FR Doc. 2015-05900 Filed 3-13-15; 8:45 am]

BILLING CODE 4310-55-P